DEPARTMENT OF COMMERCE

[Docket No. 231005-0239]

Membership of the Performance Review Boards

AGENCY: Office of the Secretary, Department of Commerce.

ACTION: Notice of Membership on the OS Performance Review Board, ITA Performance Review Board, and the EDA, NTIA, BIS, and MBDA Performance Review Board.

SUMMARY: The Department of Commerce (DOC), announces the appointment of those individuals who have been selected to serve as members of the Office of the Secretary (OS) Performance Review Board, International Trade Administration (ITA) Performance Review Board, and the Economic Development Administration (EDA), National Telecommunications and Information Administration (NTIA), Bureau of Industry and Security (BIS), Minority Business Development Agency (MBDA) Performance Review Board.

DATES: The period of appointment for those individuals selected for the Performance Review Boards begins on October 20, 2023.

FOR FURTHER INFORMATION CONTACT: Jennifer Jeffries, U.S. Department of Commerce, Office of Human Resources Management, Office of Executive Resources, 14th and Constitution Avenue NW, Washington, DC 20230, at (202) 306-0426.

SUPPLEMENTARY INFORMATION: In accordance with 5 U.S.C. 4314 (c) (4), the Office of the Secretary, Department of Commerce (DOC), announces the appointment of those individuals who have been selected to serve as members of the OS Performance Review Board, ITA Performance Review Board, and the EDA, NTIA, BIS, and MBDA Performance Review Board. The Performance Review Boards are responsible for (1) reviewing performance appraisals and ratings of Senior Executive Service (SES) and (SL) members and (2) making recommendations to the appointing authority on other performance management issues, such as pay adjustments and bonuses. The appointment of these members to the Performance Review Board will be for a period of twenty-four (24) months. The members listed in this notice can serve on any of the three boards mentioned if alternate members are needed.

The name, position title, and type of appointment of each member of the Office of the Secretary Performance Review Board are set forth below:

1. Department of Commerce, Office of the Deputy Secretary within Enterprise Services, LaMarsha DeMarr, Director, Human Resources Services, Enterprise Services Career SES

2. Department of Commerce, Office of Legislative and Intergovernmental Affairs, Rachit Choksi, Director for Oversight, Non-Career SES

3. Department of Commerce, Office of Budget, Michael Phelps, Director, Office of Budget, Career SES

4. Department of Commerce, Economic Development Administration, Angela Martinez, Denver Regional Director, Career SES

5. Department of Commerce, Office of the Deputy Chief Financial Officer for Financial Management, Holden Hoofnagle, Director, Office of Financial Management, Career SES

6. Department of Commerce, Office of General Counsel, Beth Grossman, Assistant General Counsel for Legislation and Regulation, Career SES

7. Department of Commerce, Bureau of Economic Analysis, Kathleen James Chief Administrative Officer, Career SES

The name, position title, and type of appointment of each member of the EDA, NTIA, BIS and MBDA Performance Review Board are set forth below:

1. Department of Commerce, National Oceanic and Atmospheric Administration, Octavia Saine, Deputy Director, Office of Human Capital Services, Career SES

2. Department of Commerce, National Telecommunications and Information Administration, Catrina Purvis, Chief Information Officer and Director of Administration, Career SES

3. Department of Commerce, National Telecommunications and Information Administration, (NTIA) First Responder Network Authority, Jeffrey Bratcher, Chief Technology Officer, Career SES

4. Department of Commerce, Economic Development Agency (EDA), Harry Phillip Paradice Jr., Regional Director, Atlanta Regional Office, Career SES

5. Department of Commerce, National Telecommunications and Information Administration (NTIA), Douglas Kinkoph, Associate Administrator for Telecommunications and Information Applications, Career SES

6. Department of Commerce, National Telecommunications and Information Administration (NTIA), Philip Murphy, Senior Advisor, Non-Career SES

The name, position title, and type of appointment of each member of the International Trade Administration Performance Review Board are set forth below:

1. Department of Commerce, International Trade Administration, Alex Villanueva, Senior Director, Career SES

2. Department of Commerce, Office of the Deputy Assistant Secretary for Administration within the Office of Facilities and Environmental Quality, Harold Washington, Deputy Director, Career SES

3. Department of Commerce, Office of the Deputy Assistant Secretary for Administration within the Office of Security, Isabel Lisle Hannah, Director for Facilities and Environmental Quality, Career SES

4. Department of Commerce, Bureau of the Census, Veronica LeGrande, Chief, Human Resources Division, Career SES

5. Department of Commerce, International Trade Administration, Cynthia Aragon, Director, Advocacy Center, Non-Career SES

6. Department of Commerce, National Oceanic and Atmospheric Administration, Hakeem Basheerud-Deen, Director, Office of Human Capital Services, Career SES

Dated: October 16, 2023.
Jessica S. Palatka,
Director, Office of Human Resources Management (OHRM) and Chief Human Capital Officer (CHCO).

[FR Doc. 2023-23120 Filed 10-19-23; 8:45 am]

BILLING CODE 3510-EA-P